DEPARTMENT OF THE INTERIOR

Bureau of Reclamation

[RR83570000, 156R5065C6, RX.59389832.1009676]

Agency Information Collection Activities Under OMB Review; Renewal of a Currently Approved Collection (OMB Control Number 1006-0003)

AGENCY: Bureau of Reclamation, Interior.

ACTION: Notice and request for comments.

SUMMARY: We, the Bureau of Reclamation, have forwarded the following Information Collection Request to the Office of Management and Budget (OMB) for review and approval: Bureau of Reclamation Use Authorization Application (Form 7-2540), OMB Control Number: 1006-0003. The Information Collection Request describes the nature of the information collection and its expected cost burden.

DATES: OMB has up to 60 days to approve or disapprove this Information Collection Request, but may respond after 30 days; therefore, public comments must be received on or before October 28, 2015.

ADDRESSES: Send written comments to the Desk Officer for the Department of the Interior at the Office of Management and Budget, Office of Information and Regulatory Affairs, via facsimile to (202) 395-5806; or email to oira_submission@omb.eop.gov. A copy of your comments should also be directed to Mr. Martin Bauer, Bureau of Reclamation, 84-57000, P.O. Box 25007, Denver, CO 80225-0007; or via email to mbauer@usbr.gov. Please reference OMB Control Number 1006-0003 in your comments.

FOR FURTHER INFORMATION CONTACT: Mr. Martin Bauer at (303) 445-2719. You may also view the Information Collection Request at www.reginfo.gov.

SUPPLEMENTARY INFORMATION:

I. Abstract

The Bureau of Reclamation (Reclamation) is responsible for approximately 6.5 million acres of land which directly support Reclamation's Federal water projects in the 17 Western States. Under Title 43 CFR part 429, individuals or entities wanting to use Reclamation's lands, facilities, or waterbodies must apply using Form 7-2540. Examples of such uses are:

—Agricultural uses such as grazing and farming;

—commercial or organized recreation and sporting activities;

—other commercial activities such as “guiding and outfitting” and “filming and photography;” and

—resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

The required 60-day public comment period for the Bureau of Reclamation Use Authorization Application was initiated by a notice published in the Federal Register on November 14, 2014 (79 FR 68297). No public comments were received.

II. Changes to the Bureau of Reclamation Use Authorization Application Form and Its Instructions

The only change made to the form was to improve the readability and information-gathering, and to update the Web site links.

III. Data

OMB Control Number: 1006-0003.

Title: Bureau of Reclamation Use Authorization Application.

Form Number: Form 7-2540.

Frequency: Each time a use authorization is requested.

Respondents: Individuals, corporations, companies, and State and local entities who want to use Reclamation lands, facilities, or waterbodies.

Estimated Annual Total Number of Respondents: 175.

Estimated Number of Responses per Respondent: 1.

Estimated Total Number of Annual Responses: 175.

Estimated Total Annual Burden on Respondents: 350 hours.

Estimated Completion Time per Respondent: 2 hours.

IV. Request for Comments

We invite comments concerning this information collection on:

(a) Whether the proposed collection of information is necessary for the proper performance of our functions, including whether the information will have practical use;

(b) the accuracy of our burden estimate for the proposed collection of information, including the validity of the methodology and assumptions used;

(c) ways to enhance the quality, usefulness, and clarity of the information to be collected; and

(d) ways to minimize the burden of the collection of information on respondents, including the use of automated collection techniques or other forms of information technology.

An agency may not conduct or sponsor, and a person is not required to respond to, a collection of information unless it displays a currently valid OMB control number. Reclamation will display a valid OMB control number on the form.

A Federal Register notice with a 60-day comment period soliciting comments on this collection of information was published on November 14, 2014 (79 FR 68297). No comments were received.

V. Public Disclosure

Before including your address, phone number, email address, or other personal identifying information in your comment, you should be aware that your entire comment—including your personal identifying information—may be made publicly available at any time. While you can ask us in your comment to withhold your personal identifying information from public review, we cannot guarantee that we will be able to do so.

Dated: September 11, 2015.
Roseann Gonzales,
Director, Policy and Administration.

[FR Doc. 2015-24567 Filed 9-25-15; 8:45 am]

BILLING CODE 4332-90-P